DEPARTMENT OF AGRICULTURE

Grain Inspection, Packers and Stockyards Administration

[03-01-C]

Opportunity To Comment on the Applicants for the Grand Forks (ND) and Minnesota Areas

AGENCY: Grain Inspection, Packers and Stockyards Administration, USDA.

ACTION: Notice.

SUMMARY: GIPSA requests comments on the applicants for designation to provide official services in the geographic area currently assigned to Grand Forks Grain Inspection Department, Inc. (Grand Forks) and the Minnesota Department of Agriculture (Minnesota).

DATES: Comments must be postmarked or electronically dated on or before May 30, 2003.

ADDRESSES: Comments must be submitted in writing to USDA, GIPSA, Janet M. Hart, Chief, Review Branch, Compliance Division, STOP 3604, Room 1647-S, 1400 Independence Avenue, SW., Washington, DC 20250-3604. FAX 202-690-2755; e-mail Janet.M.Hart@usda.gov. All comments received will be made available for public inspection at the above address located at 1400 Independence Avenue, SW., during regular business hours.

FOR FURTHER INFORMATION CONTACT: Janet M. Hart at 202-720-8525, e-mail Janet.M.Hart@usda.gov.

SUPPLEMENTARY INFORMATION: This Action has been reviewed and determined not to be a rule or regulation as defined in Executive Order 12866 and Departmental Regulation 1512-1; therefore, the Executive Order and Departmental Regulation do not apply to this action.

In the March 3, 2003, Federal Register (68 FR 9971), GIPSA asked persons interested in providing official services in the Grand Forks and Minnesota areas to submit an application for designation.

There were five applicants for the Grand Forks Area: Grand Forks, Grain Inspection, Inc. (Jamestown), Minot Grain Inspection, Inc. (Minot), North Dakota Grain Inspection Service, Inc. (North Dakota), all currently designated official agencies; and Paul B. Bethke, Terry D. Pladson, and Ryan M. Kuhl proposing to do business as Northern Plains Grain Inspection Service, Inc. Grand Forks applied for designation to provide official services in the entire area currently assigned to them. Jamestown, Minot, North Dakota, and Northern Plains Grain Inspection Service, Inc., applied for all or part of the area currently assigned to Grand Forks.

There were six applicants for the Minnesota area: Minnesota, North Dakota Grain Inspection Service, Inc. (North Dakota), D. R. Schaal Agency, Inc. (Schaal), Sioux City Inspection and Weighing Service Company (Sioux City), all currently designated official agencies; Paul B. Bethke, Terry D. Pladson, and Ryan M. Kuhl proposing to do business as Northern Plains Grain Inspection Service, Inc., and Kathleen Duea, Kyle Duea, Ben Duea, and Nicole Youel proposing to do business as Southern Minnesota Grain Inspection. Minnesota applied for designation to provide official services in the entire area currently assigned to them. North Dakota and Northern Plains Grain Inspection Service, Inc., applied for all or part of the area currently assigned to Minnesota. Schaal applied for all or part of the following Minnesota Counties: Blue Earth, Faribault, Freeborn, Mower, Steele, and Waseca. Sioux City applied for all or part of the following Minnesota Counties: Brown, Cottonwood, Jackson, Lincoln, Lyon, Martin, Murray, Nobles, Pipestone, Redwood, Renville, Rock, Watonwan, and Yellow Medicine. Southern Minnesota Grain Inspection applied for all or part of the area currently assigned to Minnesota, and specified all or part of the following Minnesota Counties: Blue Earth, Cottonwood, Faribault, Jackson, Martin, Murray, Nobles, and Watonwan.

GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

Dated: April 28, 2003.
Donna Reifschneider,
Administrator, Grain Inspection, Packers and Stockyards Administration.

[FR Doc. 03-10753 Filed 4-30-03; 8:45 am]

BILLING CODE 3410-EN-P